FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicant:

CN Link Freight Services Inc. dba C & U Logistics, 182-16 149th Rd, Ste. 218, Jamaica, NY 11413. Officer: Luyin Zhang, President (Qualifying Individual).

Non-Vessel Operating Common Carrier and Ocean Freight Forwarder Transportation Intermediary Applicant:

Space Cargo USA, LLC, 230 SW 192 Terrace, Pembroke Pines, FL 33029. Officer: Jose A. Romero, Director (Qualifying Individual).

Karen V. Gregory,
Secretary.

[FR Doc. E8-28139 Filed 11-25-08; 8:45 am]

BILLING CODE 6730-01-P